DEPARTMENT OF STATE

[Public Notice: 12199]

60 Day Notice of Proposed Information Collection: Medical Clearance Update

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to December 1, 2023.

ADDRESSES: You may submit comments by any of the following methods:

• Web: Persons with access to the internet may comment on this notice by going to www.Regulations.gov. You can search for the document by entering “Docket Number: DOS-2023-0032” in the Search field. Then click the “Comment Now” button and complete the comment form.

• Email: Monnajl@state.gov.

• Regular Mail: Send written comments to: Medical Director, Office of Medical Clearances, Bureau of Medical Services, 2401 E Street NW, SA-1, Room H-242, Washington, DC 20522-0101.

• Fax: 202-647-0292, Attention: Medical Clearance Director.

You must include the DS form number (if applicable), information collection title, and the OMB control number in any correspondence.

FOR FURTHER INFORMATION CONTACT: Direct requests for additional information regarding the collection listed in this notice, including requests for copies of the proposed collection instrument, and supporting documents, to Jennifer Monna who may be reached at 202-663-1657 or at Monnajl@state.gov.

SUPPLEMENTARY INFORMATION:

• Title of Information Collection: Medical Clearance Update.

• OMB Control Number: 1405-0131.

• Type of Request: Reinstatement of a discontinued collection.

• Originating Office: Bureau of Medical Services: MED/CP/CL.

• Form Number: DS-3057.

• Respondents: Contractors and eligible family members.

• Estimated Number of Respondents: 8,782.

• Estimated Number of Responses: 8,782.

• Average Time per Response: 30 minutes.

• Total Estimated Burden Time: 4,391 hours.

• Frequency: As needed.

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Form DS-3057 is designed to collect medical information to provide medical providers with current and adequate information to base decisions on whether contractors and eligible family members will have sufficient medical resources at a diplomatic mission abroad to maintain the health and fitness of the individual and family members.

Methodology

The respondent will obtain the DS-3057 form from their human resources representative or download the form from a department website. The respondent will complete and submit the form offline.

Jennifer L. Monna,
Director of Medical Clearances, Bureau of Medical Clearances, Department of State.

[FR Doc. 2023-21397 Filed 9-29-23; 8:45 am]

BILLING CODE 4710-36-P